Title 3—

The President

Proclamation 10559 of April 28, 2023

Asian American, Native Hawaiian, and Pacific Islander Heritage Month, 2023

By the President of the United States of America

A Proclamation

During Asian American, Native Hawaiian, and Pacific Islander Heritage Month, our Nation celebrates the diversity of cultures, breadth of achievement, and remarkable contributions of these communities; of brave immigrants who, motivated by the promise of possibilities, picked up their lives and found new homes here; of native peoples who have stewarded these lands since time immemorial; and of community leaders shaping a brighter future for us all. Throughout our history, they have represented the bigger story of who we are as Americans and embodied the truth that our diversity is our strength as a Nation.

Asian Americans, Native Hawaiians, and Pacific Islanders (AA and NHPIs) represent us at every level of government, including Vice President Kamala Harris, the first Vice President of South Asian descent; Ambassador Katherine Tai, the first Asian American United States Trade Representative; and Dr. Arati Prabhakar, who is the first South Asian American to lead the White House Office of Science and Technology Policy. Earlier this year, I was also proud to nominate Julie Su to serve as the Secretary of Labor. From historic Oscar-winning performances in film to achievements across business, culture, sports, and civil rights, AA and NHPIs shape and strengthen the fabric of this Nation. We see their contributions as business owners and caregivers as well as their service in the military and on the frontlines during the COVID-19 pandemic.

Despite the immeasurable ways AA and NHPIs enrich this country, we continue to see persistent racism, harassment, and hate crimes against these communities. Attacks on Asian American women and elders, have left too many families afraid to leave their homes and too many loved ones traumatized. The devastating murder of eight victims in Atlanta, six of whom were women of Asian descent, pierced the soul of this Nation. This year, after the shootings in Monterey Park and Half Moon Bay, both the Vice President and I visited California to honor the victims; grieve with the community; and witness their resilience, heroism, and courage. Hate must have no safe harbor in America, and every person deserves to be treated with dignity and respect. To address the rising tide of anti-Asian violence, I signed the bipartisan COVID-19 Hate Crimes Act into law—which included the Jabara-Heyer No HATE Act, making it easier for Americans to report hate crimes and to help State, local, and Tribal law enforcement agencies better track these hateful acts.

This year I was proud to launch the first-ever National Strategy to Advance Equity, Justice, and Opportunity for Asian American, Native Hawaiian, and Pacific Islander Communities. This plan reflects my Administration's commitment to improving the lives of AA and NHPIs—ensuring that the census collects accurate data so they are properly reflected when new policy is made; advancing safety, inclusion, and belonging for AA and NHPI communities; promoting language access and preservation; advancing AA and NHPI representation in the Federal workforce; and striving toward an equitable COVID-19 recovery. The White House was proud to host celebrations such as Diwali, Eid al-Fitr, Lunar New Year, Nowruz, and Vesak so we could celebrate with diverse AA and NHPI communities from across the Nation.

We are also creating economic opportunities for AA and NHPI workers and business owners. The Small Business Administration has distributed nearly $16 billion in loans to AA and NHPI entrepreneurs since I took office. I was proud to sign Executive Orders to ensure the Federal workforce reflects the diversity of the American people. Our efforts are paying off. In the Asian American community, unemployment has fallen by more than half since I took office, and as of 2021, entrepreneurship had risen at the fastest rate in over a decade.

As we make progress to advance equity and opportunity, we know our work is far from done. To help more AA and NHPIs see themselves in the story of America, I signed historic legislation bringing us closer to creating the National Museum of Asian Pacific American History and Culture. To honor the traditional practices and ancestral pathways of Pacific Island voyagers, I expanded protections for the Pacific Remote Islands. To help Americans reckon with and learn from more shameful chapters of our history, I signed into law the Amache National Historic Site Act, which establishes a memorial to the 10,000 Japanese Americans who were unjustly incarcerated at Amache during World War II. Facing past wrongs helps us build a more just and equitable future.

This country's fundamental promise holds that every person is created equal and deserves to be treated equally throughout their lives. We have never fully lived up to that ideal, but we have never walked away from it either. This month, we renew our work to put the American Dream within reach of all people, and we celebrate the vibrancy, contributions, and future of AA and NHPI communities across America.

NOW, THEREFORE, I, JOSEPH R. BIDEN JR., President of the United States of America, by virtue of the authority vested in me by the Constitution and the laws of the United States, do hereby proclaim May 2023 as Asian American, Native Hawaiian, and Pacific Islander Heritage Month. I call upon all Americans to learn more about the history of AA and NHPIs and to observe this month with appropriate programs and activities.

IN WITNESS WHEREOF, I have hereunto set my hand this twenty-eighth day of April, in the year of our Lord two thousand twenty-three, and of the Independence of the United States of America the two hundred and forty-seventh.

[FR Doc. 2023-09522

Filed 5-2-23; 8:45 am]

Billing code 3395-F3-P